DEPARTMENT OF ENERGY

Federal Energy Regulatory Commission

Combined Notice of Filings #1

Take notice that the Commission received the following exempt wholesale generator filings:

Docket Numbers: EG23-304-000.

Applicants: Cane Creek Solar, LLC

Description: Cane Creek Solar, LLC submits Notice of Self-Certification of Exempt Wholesale Generator Status.

Filed Date: 9/27/23.

Accession Number: 20230927-5024.

Comment Date: 5 p.m. ET 10/18/23.

Docket Numbers: EG23-305-000.

Applicants: PGR 2022 Lessee 4, LLC.

Description: PGR 2022 Lessee 4, LLC submits Notice of Self-Certification of Exempt Wholesale Generator Status.

Filed Date: 9/27/23.

Accession Number: 20230927-5025.

Comment Date: 5 p.m. ET 10/18/23.

Docket Numbers: EG23-306-000.

Applicants: Canyon Wind Energy, LLC.

Description: Canyon Wind Energy, LLC submits Notice of Self-Certification of Exempt Wholesale Generator Status.

Filed Date: 9/27/23.

Accession Number: 20230927-5038.

Comment Date: 5 p.m. ET 10/18/23.

Docket Numbers: EG23-307-000.

Applicants: Roadrunner Crossing Wind Farm, LLC.

Description: Roadrunner Crossing Wind Farm, LLC submits Notice of Self-Certification of Exempt Wholesale Generator Status.

Filed Date: 9/27/23.

Accession Number: 20230927-5091.

Comment Date: 5 p.m. ET 10/18/23.

Take notice that the Commission received the following Complaints and Compliance filings in EL Dockets:

Docket Numbers: EL23-102-000.

Applicants: One Energy Enterprises Inc.

Description: Petition for Declaratory Order of One Energy Enterprises Inc.

Filed Date: 9/26/23.

Accession Number: 20230926-5164.

Comment Date: 5 p.m. ET 10/26/23.

Take notice that the Commission received the following electric rate filings:

Docket Numbers: ER16-2376-001.

Applicants: FPL Energy Marcus Hook, L.P.

Description: Compliance filing: Marcus Hook Energy, L.P. submits tariff filing per 35: Marcus Hook Schedule 2 Reactive Notice to be effective N/A.

Filed Date: 9/27/23.

Accession Number: 20230927-5088.

Comment Date: 5 p.m. ET 10/18/23.

Docket Numbers: ER23-1811-001.

Applicants: Sol InfraCo MT1, LLC.

Description: Tariff Amendment: Amend. to MBR App. & Req. for Shortened Cmt. Period, etc. to be effective 12/31/9998.

Filed Date: 9/27/23.

Accession Number: 20230927-5097.

Comment Date: 5 p.m. ET 10/18/23.

Docket Numbers: ER23-2930-000.

Applicants: ITC Midwest LLC.

Description: 205(d) Rate Filing: ITC Midwest JUA (RS 226) and DTIA (RS 227) with City of Truman to be effective 11/27/2023.

Filed Date: 9/27/23.

Accession Number: 20230927-5019.

Comment Date: 5 p.m. ET 10/18/23.

Docket Numbers: ER23-2931-000.

Applicants: PJM Interconnection, L.L.C.

Description: 205(d) Rate Filing: Amendment to ISA; Service Agreement No. 6237; Queue No. AE2-290 to be effective 11/27/2023.

Filed Date: 9/27/23.

Accession Number: 20230927-5050.

Comment Date: 5 p.m. ET 10/18/23.

Docket Numbers: ER23-2932-000.

Applicants: Pennsylvania Electric Company, PJM Interconnection, L.L.C.

Description: 205(d) Rate Filing: Pennsylvania Electric Company submits tariff filing per 35.13(a)(2)(iii: Penelec Amends 10 ECSAs (5656 5701 5706 5707 5708 5709 5778 5782 5784 5785) to be effective 12/31/9998.

Filed Date: 9/27/23.

Accession Number: 20230927-5054.

Comment Date: 5 p.m. ET 10/18/23.

Docket Numbers: ER23-2933-000.

Applicants: Cane Creek Solar, LLC.

Description: Baseline eTariff Filing: Cane Creek Solar, LLC MBR Tariff to be effective 11/27/2023.

Filed Date: 9/27/23.

Accession Number: 20230927-5055.

Comment Date: 5 p.m. ET 10/18/23.

Docket Numbers: ER23-2934-000.

Applicants: PGR 2022 Lessee 4, LLC.

Description: Baseline eTariff Filing: PGR 2022 Lessee 4, LLC MBR Tariff to be effective 11/27/2023.

Filed Date: 9/27/23.

Accession Number: 20230927-5056.

Comment Date: 5 p.m. ET 10/18/23.

Docket Numbers: ER23-2935-000.

Applicants: Midcontinent Independent System Operator, Inc., Northern Indiana Public Service Company LLC.

Description: 205(d) Rate Filing: Midcontinent Independent System Operator, Inc. submits tariff filing per 35.13(a)(2)(iii: 2023-09-27_NIPSCO Request for Depreciation Rates to be effective 8/1/2023.

Filed Date: 9/27/23.

Accession Number: 20230927-5080.

Comment Date: 5 p.m. ET 10/18/23.

Docket Numbers: ER23-2936-000.

Applicants: Southwestern Electric Power Company.

Description: 205(d) Rate Filing: SWEPCO-AECC-OECC (Prairie Grove) amended and restated Delivery Point Agreement to be effective 9/2/2023.

Filed Date: 9/27/23.

Accession Number: 20230927-5100.

Comment Date: 5 p.m. ET 10/18/23.

Take notice that the Commission received the following electric securities filings:

Docket Numbers: ES23-72-000.

Applicants: Mid-Atlantic Interstate Transmission, LLC.

Description: Application Under Section 204 of the Federal Power Act for Authorization to Issue Securities of Mid-Atlantic Interstate Transmission, LLC.

Filed Date: 9/26/23.

Accession Number: 20230926-5151.

Comment Date: 5 p.m. ET 10/17/23.

Docket Numbers: ES23-73-000.

Applicants: Metropolitan Edison Company.

Description: Application Under Section 204 of the Federal Power Act for Authorization to Issue Securities of Metropolitan Edison Company.

Filed Date: 9/26/23.

Accession Number: 20230926-5143.

Comment Date: 5 p.m. ET 10/17/23.

Docket Numbers: ES23-74-000.

Applicants: Monongahela Power Company.

Description: Application Under Section 204 of the Federal Power Act for Authorization to Issue Securities of Monongahela Power Company.

Filed Date: 9/26/23.

Accession Number: 20230926-5144.

Comment Date: 5 p.m. ET 10/17/23.

Docket Numbers: ES23-75-000.

Applicants: Pennsylvania Electric Company.

Description: Application Under Section 204 of the Federal Power Act for Authorization to Issue Securities of Pennsylvania Electric Company.

Filed Date: 9/26/23.

Accession Number: 20230926-5145.

Comment Date: 5 p.m. ET 10/17/23.

Docket Numbers: ES23-76-000.

Applicants: Pennsylvania Power Company.

Description: Application Under Section 204 of the Federal Power Act for Authorization to Issue Securities of Pennsylvania Power Company.

Filed Date: 9/26/23.

Accession Number: 20230926-5146.

Comment Date: 5 p.m. ET 10/17/23.

Docket Numbers: ES23-77-000.

Applicants: The Potomac Edison Company.

Description: Application Under Section 204 of the Federal Power Act for Authorization to Issue Securities of The Potomac Edison Company.

Filed Date: 9/26/23.

Accession Number: 20230926-5147.

Comment Date: 5 p.m. ET 10/17/23.

Docket Numbers: ES23-78-000.

Applicants: Trans-Allegheny Interstate Line Company.

Description: Application Under Section 204 of the Federal Power Act for Authorization to Issue Securities of Trans-Allegheny Interstate Line Company.

Filed Date: 9/26/23.

Accession Number: 20230926-5148.

Comment Date: 5 p.m. ET 10/17/23.

Docket Numbers: ES23-79-000.

Applicants: West Penn Power Company.

Description: Application Under Section 204 of the Federal Power Act for Authorization to Issue Securities of West Penn Power Company.

Filed Date: 9/26/23.

Accession Number: 20230926-5152.

Comment Date: 5 p.m. ET 10/17/23.

Take notice that the Commission received the following qualifying facility filings:

Docket Numbers: QF23-1308-000.

Applicants: Presbyterian Healthcare Services.

Description: Form 556 of Presbyterian Healthcare Services.

Filed Date: 9/27/23.

Accession Number: 20230927-5018.

Comment Date: 5 p.m. ET 10/18/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: September 27, 2023.
Debbie-Anne A. Reese,
Deputy Secretary.

[FR Doc. 2023-21905 Filed 10-3-23; 8:45 am]

BILLING CODE 6717-01-P